DEPARTMENT OF AGRICULTURE

Farm Service Agency

Request for Extension of a Currently Approved Information Collection; Emergency Farm Loans

AGENCY: Farm Service Agency, USDA.

ACTION: Notice and request for comments.

SUMMARY: In accordance with the Paperwork Reduction Act of 1995, the Farm Service Agency (FSA) is seeking comments from all interested individuals and entities on the extension of currently approved information collection that supports the Emergency Loan Program (ELP). The collection of information from loan applicants and commercial lenders is used to determine eligibility, financial feasibility and security positions when the applicant requests emergency loan assistance.

DATES: Comments on this notice must be received on or before July 2, 2007 to be assured consideration.

FOR FURTHER INFORMATION CONTACT: Anne Steppe, Loan Officer, USDA, Farm Service Agency, Loan Making Division, 1400 Independence Avenue, SW., Stop 0522, Washington, DC 20250-0522; Telephone (202) 690-4017; Electronic mail: anne.steppe@wdc.usda.gov.

SUPPLEMENTARY INFORMATION: Title: Emergency Farm Loans.

OMB Control Number: 0560-0159.

Expiration Date of Approval: December 31, 2007.

Type of Request: Extension of Currently Approved Information Collection.

Abstract: This information collection is necessary to effectively administer the Emergency Loan Program in accordance with the requirements of 7 CFR part 764 as authorized by the Consolidated Farm and Rural Development Act (CONACT). The collected information is submitted to the FSA loan official by loan applicants and commercial lenders for use in making program eligibility, financial feasibility determinations and loan security determinations as required by the CONACT.

Estimate of Annual Respondent Burden: Public reporting burden for this collection of information is estimated to average 0.76 hours per response.

Respondents: Individuals and entity farmers and commercial lenders.

Estimated Number of Respondents: 6,030.

Estimated Number of Responses per Respondent: 1.

Estimated Total Annual Burden on Respondents: 4,566.

Comments are invited on: (a) Whether the collection of information is necessary for the above stated purposes and the proper performance of the functions of the agency, including whether the information will have practical utility; (b) the accuracy of the agency's estimate of burden, including the validity of the methodology and assumptions used; (c) ways to enhance the quality, utility and clarity of the information being collected; and (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Anne Steppe, Loan Officer, USDA Farm Service Agency, Loan Making Division, 1400 Independence Avenue, SW., STOP 0522, Washington, DC 20250-0522.

Comments will be summarized and included in the request for Office of Management and Budget approval of the information collection. All comments will also become a matter of public record.

Signed in Washington, DC on April 23, 2007.
Teresa C. Lasseter,
Administrator, Farm Service Agency.

[FR Doc. E7-8242 Filed 4-30-07; 8:45 am]

BILLING CODE 3410-05-P